DEPARTMENT OF COMMERCE

International Trade Administration

[C-570-011]

Crystalline Silicon Photovoltaic Products From the People's Republic of China: Rescission of Countervailing Duty Administrative Review; 2018

AGENCY: Enforcement and Compliance, International Trade Administration, Department of Commerce.

SUMMARY: The Department of Commerce (Commerce) is rescinding the administrative review of the countervailing duty (CVD) order on crystalline silicon photovoltaic products (solar products) from the People's Republic of China (China) for the period of review January 1, 2018, through December 31, 2018 (POR).

DATES: Applicable October 29, 2019.

FOR FURTHER INFORMATION CONTACT: Gene H. Calvert, AD/CVD Operations, Office VII, Enforcement and Compliance, International Trade Administration, U.S. Department of Commerce, 1401 Constitution Avenue NW, Washington, DC 20230; telephone (202) 482-3586.

SUPPLEMENTARY INFORMATION:

Background

On February 8, 2019, Commerce published in the Federal Register a notice of opportunity to request an administrative review of the CVD order on solar products from China for the POR.¹ On February 25, 2019, Shenzhen Portable Electronic Technology Co., Ltd. (Shenzhen Technology) a Chinese exporter of the subject merchandise covered by the underlying CVD order, timely requested a review for its own POR entries of subject merchandise.² On February 28, 2019, Suniva, Inc. (Suniva), a domestic producer of subject merchandise, timely requested a review of 12 companies, one of which was Shenzhen Technology.³ Shenzhen Technology and Suniva each filed its request for review in accordance with section 751(a) of the Tariff Act of 1930, as amended (the Act), and 19 CFR 351.213(b). No other interested party requested an administrative review of any company for this segment of the proceeding. Based on the requests filed by Shenzhen Technology and Suniva, and in accordance with section 751(a) of the Act and 19 CFR 351.221(c)(1)(i), on May 2, 2019, Commerce initiated an administrative review of the CVD order on solar products from China covering the POR.⁴

¹ See Antidumping or Countervailing Duty Order, Finding, or Suspended Investigation; Opportunity to Request Administrative Review, 84 FR 2816 (February 8, 2019).

² See Shenzhen Technology's Letter, “Crystalline Silicon Photovoltaic Products from the People's Republic of China—Request for Administrative Review,” dated February 25, 2019.

³ See Suniva's Letter, “Crystalline Silicon Photovoltaic Products from the People's Republic of China: Request for Administrative Review,” dated February 28, 2019.

⁴ See Initiation of Antidumping and Countervailing Duty Administrative Reviews, 84 FR 18777 (May 2, 2019).

On May 2, 2019, Suniva timely withdrew its request for the administrative review of all the companies for which it requested an administrative review; ⁵ Shenzhen Technology timely withdrew its request for an administrative review regarding its own entries on June 13, 2019.⁶

⁵ See Suniva's Letter, “Crystalline Silicon Photovoltaic Products from the People's Republic of China: Withdraw of Request of Administrative Review,” dated (May 2, 2019).

⁶ See Shenzhen Technology's Letter, “Crystalline Silicon Photovoltaic Products from the People's Republic of China—Withdrawal of Request for Administrative Review,” dated June 13, 2019.

Rescission of Review

Pursuant to 19 CFR 351.213(d)(1), the Secretary will rescind an administrative review, in whole or in part, if the party that requested the review withdraws the request within 90 days of the date of publication of the notice of initiation of the requested review. As noted above, Shenzhen Technology and Suniva, the only interested parties that filed requests for an administrative review for this segment of the proceeding, each timely withdrew its respective request for all companies for which a review was requested. Accordingly, Commerce is rescinding the administrative review of the CVD order on solar products from China for the period January 1, 2018, through December 31, 2018, in its entirety.

Assessment

Commerce will instruct U.S. Customs and Border Protection (CBP) to assess CVD duties on all appropriate entries of solar products from China. CVD duties shall be assessed at rates equal to the cash deposit of estimated CVD duties required at the time of entry, or withdrawal from warehouse, for consumption, in accordance with 19 CFR 351.212(c)(1)(i). Commerce intends to issue appropriate assessment instructions to CBP 15 days after the date of publication of this notice in the Federal Register.

Notice to Importers

This notice serves as a reminder to importers of their responsibility under 19 CFR 351.402(f)(2) to file a certificate regarding the reimbursement of CVD duties prior to liquidation of relevant entries during this review period. Failure to comply with this requirement could result in Commerce's presumption that reimbursement of CVD duties occurred and the subsequent assessment of doubled CVD duties.

Notification Regarding Administrative Protective Orders

This notice also serves as a reminder to all parties subject to administrative protective order (APO) of their responsibility concerning the disposition of proprietary information disclosed under APO in accordance with 19 CFR 351.305. Timely written notification of the return/destruction of APO materials or conversion to judicial protective order is hereby requested. Failure to comply with the regulations and terms of an APO is a sanctionable violation.

This notice is issued and published in accordance with section 751(a)(1) and 777(i)(1) of the Act, and 19 CFR 351.213(d)(4.).

Dated: October 24, 2019.
James Maeder,
Deputy Assistant Secretary for Antidumping and Countervailing Duty Operations.

[FR Doc. 2019-23577 Filed 10-28-19; 8:45 am]

BILLING CODE 3510-DS-P